DEPARTMENT OF HEALTH AND HUMAN SERVICES

Food and Drug Administration

Food Labels, Packaging, Restaurants, and Weight Management; Public Workshop

AGENCY: Food and Drug Administration, HHS.

ACTION: Notice of public workshop.

SUMMARY: The Food and Drug Administration (FDA), in collaboration with the Department of Health and Human Service's Office of the Assistant Secretary for Planning and Evaluation (OASPE) and FDA's Center for Food Safety and Applied Nutrition (CFSAN), is announcing a public workshop entitled “Exploring the Connections Between Weight Management and Food Labels and Packaging.” The workshop is being held in response to the growing concern about obesity in the United States. It is intended to be a science workshop (i.e., nutrition, consumer science, economics, marketing and other relevant sciences) that will look at available data to identify options (and pros and cons) about FDA's food labeling and food packaging requirements that are relevant to consumer weight management decisions.

DATES: The public workshop will be held on November 20, 2003, from 8:30 a.m. to 6 p.m.

Location: The public workshop will be held at the Lister Hill Conference Center, National Institutes of Health Bldg. 38A, 8600 Rockville Pike, Bethesda, MD 20814.

FOR FURTHER INFORMATION CONTACT: Amber Jessup, Center for Food Safety and Applied Nutrition (HFS-726), Food and Drug Administration, 5100 Paint Branch Pkwy., College Park, MD 20740, 301-436-1689, amber.jessup@fda.gov.

Registration: There is no registration fee for the workshop; however, seating is limited. Therefore, interested parties are encouraged to register early. You may register online by clicking on https://secure.z-techcorp.com/cmt/ (FDA has verified the Web site address but is not responsible for subsequent changes to the Web site after this document publishes in the Federal Register). All those planning to preregister must register no later than Friday, November 7, 2003. Registration will close after the workshop is filled. Onsite registration will be done on a space-available basis on the day of the public workshop beginning at 8 a.m. If you have any questions, please contact Karen Ellis at 301-315-2806 or via e-mail at kellis@z-techcorp.com. If you need special accommodations due to a disability, please contact Ms. Ellis at least 7 days in advance.

SUPPLEMENTARY INFORMATION: The workshop is being held in response to the growing concern about obesity in the United States. The workshop is co-sponsored by FDA, CFSAN and OASPE. The workshop will be of primary interest to nutritionists, marketing experts, social marketing experts, industry, the legal community involved in food labeling and marketing issues, government agencies, consumer groups, and clinicians with obesity expertise. The goal of this science workshop is to look at the available data and to identify options (pro & con) for food labeling and food packaging, which are relevant to consumers' weight management decisions. Topics to be discussed at the workshop include: “Current food labels and packaging: Effects on weight management and reduced risk of overweight and obesity” and “Data supporting options for change.” The workshop will include sessions with expert views on food packaging and labeling, and on messaging in the restaurant environment relevant to overall weight management.

Transcripts: Transcripts of the public workshop may be requested in writing from the Freedom of Information Office (HFI-35), Food and Drug Administration, 5600 Fishers Lane, rm. 12A-16, Rockville, MD 20857, approximately 15 working days after the public workshop at a cost of 10 cents per page.

Dated: October 8, 2003.
Jeffrey Shuren,
Assistant Commissioner for Policy.

[FR Doc. 03-26268 Filed 10-16-03; 8:45 am]

BILLING CODE 4160-01-S